DEPARTMENT OF EDUCATION

Office of Safe and Drug-Free Schools; Overview Information; Grants to States To Improve Management of Drug and Violence Prevention Programs; Notice Inviting Applications for New Awards for Fiscal Year (FY) 2004

Catalog of Federal Domestic Assistance (CFDA) Number: 84.184R.

Dates: Applications Available: May 28, 2004.

Deadline for Transmittal of Applications: July 15, 2004.

Deadline for Intergovernmental Review: August 16, 2004.

Eligible Applicants: State educational agencies or other State agencies administering the Safe and Drug-Free Schools and Communities Act (SDFSCA) State Grants program.

Estimated Available Funds: $5,000,000. Contingent upon the availability of funds, the Secretary may make additional awards in FY 2005 from the rank-ordered list of unfunded applicants from this competition.

Estimated Range of Awards: $300,000—$500,000.

Estimated Number of Awards: 12.

Note: The Department is not bound by any estimates in this notice.

Project Period: Up to 36 months.

I. Full Text of Announcement

Purpose of Program: The purpose of the Grants to States To Improve Management of Drug and Violence Prevention Programs is to award grants to State agencies to support development and testing of strategies for developing, expanding, or enhancing the capacity of State and local educational agencies, and other State agencies and community-based entities, to collect, analyze, and use data to improve the quality of drug and violence prevention programs administered in the States.

Background: This program is authorized by the No Child Left Behind Act of 2001 (20 U.S.C. 7131) under Subpart 2—National Programs (section 4121(a)(9)), which authorizes the Secretary to carry out other activities to prevent drugs and violence in the schools in addition to those specifically mentioned in the legislation. This program is designed to provide support to States to explore strategies that will address the challenges they face in collecting and using data to manage the implementation of drug and violence prevention programs, including:

(a) Lack of standardized data collection instruments and common definitions in use within the States;

(b) Lack of available expertise specific to collecting data about youth drug use and violence;

(c) Lack of resources to support high-quality data collection at the State and sub-State level; and

(d) Unfavorable community and media reaction to high rates of youth drug use and violence that discourages full and accurate reporting.

This project complements the U.S. Department of Education's (ED's) Performance-Based Data Management Initiative (PBDMI), which focuses on strategies to facilitate the transfer of information from State administrative records to ED to satisfy reporting requirements for programs administered by ED. This program seeks to provide support to help States and their localities improve the quality of information collected at the individual school and school district levels, and as a result, to improve the quantity and quality of data related to youth drug use and violence that are available to the State for submission via the PBDMI.

Priority: This notice includes one absolute priority and one competitive preference priority. We are establishing these priorities for the FY 2004 grant competition and any future awards made on the basis of the funding slate from this competition, in accordance with Section 437(d)(1) of the General Education Provisions Act (GEPA).

Absolute Priority: For this competition, this priority is an absolute priority. Under 34 CFR 75.105(c)(3) we consider only applications that meet this priority.

This priority is: The development, enhancement, or expansion of the capacity of States and other entities that receive SDFSCA State Grants Program funds to collect, analyze, and use data to improve the management of drug and violence prevention programs. At a minimum, applicants must propose projects that will provide this expanded capacity to the State educational agency (SEA), the State agency administering the Governor's funding under the SDFSCA State Grants Program, and local educational agencies and community-based organizations that receive SDFSCA State Grants Program funding. Specifically, projects must be designed to:

(a) Include activities designed to expand the capacity of local educational agencies and community-based organizations that receive SDFSCA funds to use data to assess needs, establish performance measures, select appropriate interventions, monitor progress toward established performance measures, and inform the public about drug and violence prevention programs;

(b) Collect data that, at a minimum, meets the requirements of the Uniform Management Information and Reporting System (UMIRS) described in section 4112(c)(3) of the Elementary and Secondary Education Act of 1965, as amended by the No Child Left Behind Act of 2001 (ESEA);

(c) Be consistent with the State's PBDMI strategy and produce data that can be transmitted to ED via its Education Data Exchange Network (EDEN) project; and

(d) Include validation and verification activities at the State and sub-State recipient levels designed to ensure the accuracy of data collected and reported.

Competitive Preference Priority: For this competition, this priority is a competitive preference priority. Under 34 CFR 75.105(c)(2)(i) we award up to an additional 10 points to an application, depending on the extent to which the application meets this priority.

This priority is: The collection of incident data in a manner consistent with the definitions and protocols developed under the Federal Bureau of Investigation's Uniform Crime Reporting (UCR) Program.

Waiver of Proposed Rulemaking: Under the Administrative Procedure Act (5 U.S.C. 553) the Department generally offers interested parties the opportunity to comment on proposed priorities, selection criteria, and other non-statutory requirements. Section 437(d)(1) of GEPA (20 U.S.C. 1232(d)(1)), however, allows the Secretary to exempt from rulemaking requirements rules governing the first grant competition under a new or substantially revised program authority. This is the first competition under the Grants to States to Improve Management of Drug and Violence Prevention Programs initiative, and therefore qualifies for this exemption. In order to ensure timely grant awards, the Secretary has decided to forego public comment on the priorities, selection criteria and other non-statutory requirements under section 437(d)(1) of GEPA. These priorities, selection criteria, and other non-statutory requirements will apply to this competition only.

Program Authority: 20 U.S.C. 7131.

Applicable Regulations: The Education Department regulations in 34 CFR parts 75, 77, 79, 80, 81, 82, 84, 85, 97, 98, 99, and 299.

II. Award Information

Type of Award: Discretionary grants.

Estimated Available Funds: $5,000,000. Contingent upon the availability of funds, the Secretary may make additional awards in FY 2005 from the rank-ordered list of unfunded applicants from this competition.

Estimated Range of Awards: $300,000-$500,000.

Estimated Number of Awards: 12.

Note: The Department is not bound by any estimates in this notice.

Project Period: Up to 36 months.

III. Eligibility Information

1. Eligible Applicants: State educational agencies (SEAs) or other State agencies administering the SDFSCA State Grants program.

2. Cost Sharing or Matching: This program does not involve cost sharing or matching.

3. Other: In addition to meeting the absolute priority for this competition, a State (or the District of Columbia or Puerto Rico) may be awarded only a single grant for this program.

The application must demonstrate the commitment of both the SEA and the State agency receiving the Governor's portion of SDFSCA State Grants Program funding to the project. In order to meet this requirement, an applicant must include in its application a memorandum of understanding that includes, at a minimum, the signatures of the authorized representatives for the SEA and the State agency (or agencies) receiving the Governor's portion of SDFSCA State Grants Program funding for the State. The memorandum of understanding must outline project roles and responsibilities for the participants.

The application also must include evidence that the proposal has been reviewed by and has the approval of the State's chief information officer (CIO) and/or chief technology officer (CTO). The CIO and/or CTO may sign the required memorandum of understanding, or may provide a separate document including the required assurance.

Projects must propose to employ appropriate technology for the collection and analysis of data. Data may not be collected or reported manually.

IV. Application and Submission Information

1. Address to Request Application Package: Paper copies of the application package for this program are available from Maria Worthen, Office of Safe and Drug-Free Schools, U.S. Department of Education, 400 Maryland Avenue, SW., Washington, DC 20202-6450. Telephone: 1 (202) 205-5632. Fax: (202) 260-7767, or by e-mail: Maria.Worthen@ed.gov.

The application package for this program is also available in PDF and WORD format from the Department's Web site at: http://www.ed.gov/fund/grant/apply/grantapps/index.html.

If you use a telecommunications device for the deaf (TDD), you may call the Federal Information Relay Service (FIRS) at 1 (800) 877-8339.

Individuals with disabilities may obtain a copy of the application package for this program in an alternative format (e.g., Braille, large print, audiotape, or computer diskette) on request to the program contact persons listed in this section.

2. Content and Form of Application Submission: Requirements concerning the content of an application, together with the forms you must submit, are in the application package for this program.

3. Submission Dates and Times:

Applications Available: May 28, 2004.

Deadline for Transmittal of Applications: July 15, 2004. The dates and times for the transmittal of applications by mail or by hand (including a courier service or commercial carrier) are in the application package for this program. The application package also specifies the hours of operation of the e-Application Web site.

We do not consider an application that does not comply with the deadline requirements.

Deadline for Intergovernmental Review: August 16, 2004.

4. Intergovernmental Review: This program is subject to Executive Order 12372 and the regulations in 34 CFR Part 79. Information about Intergovernmental Review of Federal Programs under Executive Order 12372 is in the application package for this program.

5. Other Submission Requirements: Instructions and requirements for the transmittal of applications by mail or by hand (including a courier service or commercial carrier) are in the application package for this program.

Application Procedures:

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications:

We are continuing to expand our pilot project for electronic submission of applications to include additional formula grant programs and additional discretionary grant competitions. The Grants to States to Improve Management of Drug and Violence Prevention Programs competition—CFDA 84.184R is one of the programs included in the pilot project. If you are an applicant under Grants to States to Improve Management of Drug and Violence Prevention Programs, you may submit your application to us in either electronic or paper format.

The pilot project involves the use of the Electronic Grant Application System (e-Application). If you use e-Application, you will be entering data online while completing your application. You may not e-mail an electronic copy of a grant application to us. If you participate in this voluntary pilot project by submitting an application electronically, the data you enter online will be saved into a database. We request your participation in e-Application. We will continue to evaluate its success and solicit suggestions for its improvement.

If you participate in e-Application, please note the following:

• Your participation is voluntary.

• When you enter the e-Application system, you will find information about its hours of operation. We strongly recommend that you do not wait until the application deadline date to initiate an e-Application package.

• You will not receive additional point value because you submit a grant application in electronic format, nor will we penalize you if you submit an application in paper format.

• You may submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on other forms at a later date.

Application Deadline Date Extension in Case of System Unavailability: If you elect to participate in the e-Application pilot for the Grants to States to Improve Management of Drug and Violence Prevention Programs competition and you are prevented from submitting your application on the application deadline date because the e-Application system is unavailable, we will grant you an extension of one business day in order to transmit your application electronically, by mail, or by hand delivery. We will grant this extension if—

1. You are a registered user of e-Application, and have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed elsewhere in this notice under FOR FURTHER INFORMATION CONTACT (see VII. Agency Contact) or (2) the e-GRANTS help desk at 1 (888) 336-8930.

You may access the electronic grant application for the Grants to States to Improve Management of Drug and Violence Prevention Programs competition at: http://e-grants.ed.gov.

V. Application Review Information

Selection Criteria: The selection criteria for this program are in the application package.

VI. Award Administration Information

1. Award Notices: If your application is successful, we notify your U.S. Representative and U.S. Senators and send you a Grant Award Notice (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information as directed by the Secretary. If you receive a multi-year award, you must submit an annual performance report that provides the most current performance and financial expenditure information as specified by the Secretary in 34 CFR 75.118.

4. Performance Measures: The Secretary has established the following performance measures for assessing the effectiveness of the Grants to States to Improve Management of Drug and Violence Prevention Programs:

a. The proportion of LEAs and Governor's fund recipients that are using data related to youth drug and violence to manage youth drug, alcohol, and violence prevention programs by:

• Incorporating this data in needs assessment processes;

• Using this data to develop performance measures for their SDFSC program funds;

• Considering this data in selecting school and, where applicable community-based interventions for implementation;

• Monitoring the success of interventions in reducing drug and alcohol use and violence, and in building stronger communities; and

• Sharing data with entity officials and the public.

b. The proportion of LEAs and Governor's Program fund recipients that have received training about collecting, analyzing and using data to manage and improve drug and violence prevention programs.

c. The proportion of LEAs and Governor's Program fund recipients that submit complete responses to data collections.

These three measures constitute the Department's indicators of success for this program. Consequently, applicants for a grant under this program are advised to give careful consideration to these outcomes in conceptualizing the design, implementation, and evaluation of their proposed project. If funded, applicants will be asked to collect and report data in their annual performance reports about progress toward these goals. Only baseline data and data at the conclusion of the project will be required for the first indicator.

VII. Agency Contact

For Further Information Contact: Maria Worthen, U.S. Department of Education, 400 Maryland Avenue, SW., Washington, DC 20202-6450. Telephone: (202) 205-5632, or by e-mail: Maria.Worthen@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: May 24, 2004.
Deborah A. Price,
Deputy Under Secretary for Safe and Drug-Free Schools.

[FR Doc. 04-12073 Filed 5-27-04; 8:45 am]

BILLING CODE 4000-01-P